NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 3, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-01-8, 13 items, 13 temporary items). Short term records relating to security assistance and military intelligence. Included are such records as organization charts and lists of U.S. Government components involved in security assistance, foreign military sales shipping and property documents, files relating to the training of foreign nationals, intelligence and polygraph reports, and accounting records for contingency funds. Also included are electronic copies of documents created using electronic mail and word processing. This schedule allows the agency to expedite disposal of these records, which previously were approved for disposal. It also authorizes the agency to apply the proposed disposition instructions to any recordkeeping medium.

2. Department of Commerce, National Oceanographic and Atmospheric Administration (N1-370-01-3, 1 item, 1 temporary item). Paper rolls of seismograms recorded at various locations in the United States from 1919 through 1971. These records will be disposed of via donation to Columbia University's Lamont-Doherty Earth Observatory in accordance with 36 CFR 1228.60.

3. Department of Defense, Joint Staff (N1-218-00-1, 58 items, 17 temporary items). Records relating to corporate and headquarter matters accumulated by the Joint Staff and combatant commands. Included are such records as card indexes and other finding aids, internal staffing and tasking correspondence, routine administrative support documents for oversight actions, administrative tasking and control systems, and electronic systems maintained at combatant commands that feed into systems maintained at higher levels. Also included are electronic copies of documents created using electronic mail and word processing. Proposed for permanent retention are recordkeeping copies of such records as official memoranda, agendas, case files of the Chairman and Vice-Chairman, reports and analyses of defense issues, research files and background papers for historical monographs and studies, and files relating to national security matters.

4. Department of Defense, Joint Staff (N1-218-00-2, 26 items, 18 temporary items). Records relating to organizational and manpower matters accumulated by the Joint Staff and combatant commands. Included are such records as background papers and drafts submitted in connection with proposed changes in organizational structure, requests and other files pertaining to changes in manpower authorizations, civilian position statements, reports on manpower utilization and expenses, and electronic systems maintained at combatant commands that feed into systems maintained at higher levels. Also included are electronic copies of documents created using electronic mail and word processing. Recordkeeping copies of such files as organization charts and related documents, records of committees and boards, and manpower criteria and requirements are proposed for permanent retention.

5. Department of Defense, Joint Staff (N1-218-00-9, 26 items, 12 temporary items). Records relating to international matters accumulated by the Joint Staff and combatant commands. Included are such records as copies of international agreements and documents, files documenting the release of military information, administrative records relating to foreign military assistance, and electronic systems maintained at combatant commands that feed into systems maintained at higher levels. Also included are electronic copies of documents created using electronic mail and word processing. Proposed for permanent retention are recordkeeping copies of files relating to such matters as international negotiations and agreements, the navigation and overflight program, strategic planning, arms limitation, security assistance, foreign military sales, and international logistics conferences.

6. Department of Defense, Joint Staff (N1-218-00-12, 31 items, 20 temporary items). Records relating to medical matters accumulated by the Joint Staff and combatant commands. Included are such records as directives, guides, correspondence and memorandums pertaining to general medical administration, files pertaining to logistical matters, and mental health, family advocacy, and substance abuse case files. Also included are electronic systems maintained at combatant commands that feed into systems maintained at higher levels as well as electronic copies of documents created using electronic mail and word processing. Proposed for permanent retention are recordkeeping copies of files relating to such matters as preventive medicine, medical logistical support, medical doctrine, strategic plans, operational support planning, and medical exercises and operations.

7. Department of Defense, Defense Contract Audit Agency (N1-372-01-4, 3 items, 3 temporary items). Records relating to the investigation of hotline complaints. Included are such records as reports, reviews, memoranda of telephone conversations, and related documentation. Also included are electronic copies of documents created using electronic mail and word processing.

8. Department of Defense, Defense Contract Audit Agency (N1-372-01-5, 3 items, 3 temporary items). Records verifying actions taken to sanitize or destroy computer hard drives prior to removal from agency custody. Included are certifications, forms, letters, and related documentation confirming that computer hard drives have been overwritten, demagnetized, or destroyed. Also included are electronic copies of documents created using electronic mail and word processing.

9. Department of Health and Human Services, Health Care Financing Administration (N1-440-01-3), 7 items, 7 temporary items). Records relating to Medicaid state plans and amendments. Included are such records as approved plans for administration of the Medicaid program, Attorney General certifications, and formal transmittals and approval notices. Also included are electronic copies of records created using electronic mail and word processing as well as copies of records that have been posted to the agency web site.

10. Department of Health and Human Services, Health Care Financing Administration (N1-440-01-5), 3 items, 3 temporary items). Records relating to Medicare's secondary payer program. Records include case files developed to establish the Government's right to recovery and/or impose other sanctions or corrective actions as well as general correspondence concerning Medicare policies. Also included are electronic copies of records created using electronic mail and word processing.

11. Department of Health and Human Services, Health Care Financing Administration (N1-440-01-6, 3 items, 3 temporary items). Certifications relating to the compliance of health maintenance organizations with the statutory and regulatory requirements of Title XIII of the Public Health Act and Title XVII of the Social Security Act. Also included are electronic copies of records created using electronic mail and word processing that pertain to compliance activities.

12. Department of the Interior, U.S. Geological Survey (N1-57-01-3, 8 items, 8 temporary items). Records relating to activities carried out under the National Environmental Policy Act. Included are such records as environmental impact statements (EISs) generated by the agency, comments on other agencies' EISs, copies of environmental statement policy memorandums, reports, and general correspondence. Also included are electronic copies of records created using electronic mail, spreadsheets, and word processing.

13. Department of Justice, Office of Policy Development (N1-60-01-4, 4 items, 4 temporary items). Subject, project, and chronological files of the Assistant Attorney General and Deputy Assistant Attorneys General for Policy Development. Also included are electronic copies of records created using electronic mail and word processing.

14. Department of State, Bureau of Human Resources (N1-59-00-10, 18 items, 18 temporary items). Records of the Office of Employee Relations pertaining to such matters as savings bond drives, disciplinary actions, alternative dispute resolution, workers compensation, the provision of reasonable accommodations for the disabled, disability retirement, and health benefits. Also included are electronic systems used to track grievance actions and workers compensation claims as well as electronic copies of documents created using electronic mail and word processing.

15. Department of State, Bureau of Nonproliferation (N1-59-01-12, 72 items, 43 temporary items). Daily activity records, reports and chronological files accumulated at lower levels, conference administrative records, reference files, files of interagency committees for which the bureau is not the chair, proposals and resumes pertaining to International Science Technology Centers, requests from other offices for the clearance of cables, and press files. Also included are electronic copies of documents created using electronic mail and word processing. Proposed for permanent retention are weekly and daily activity reports, higher level chronological files, subject files on various topics handled by the bureau, files of interagency committees for which the bureau is chair, arms transfer case files, information reports files, export case files, and background and briefing books.

16. Department of Transportation, United States Coast Guard (N1-26-01-1, 8 items, 8 temporary items). Data input files, outputs, electronic master files, back-up files, and system documentation pertaining to electronic systems used for acquisition and accounting. Also included are electronic copies of records created using electronic mail and word processing.

17. Environmental Protection Agency, Office of Enforcement and Compliance Assurance (N1-412-99-24, 9 items, 9 temporary items). Records of the Criminal Enforcement Counsel and Criminal Investigation Division relating to criminal investigations. Also included are records pertaining to legal advice issued to investigators and electronic copies of documents created using electronic mail and word processing.

18. Nuclear Regulatory Commission, Regional Offices (N1-431-00-21, 2 items, 2 temporary items). Records relating to the receipt, review, and resolution of allegations of improper actions by employees and contractors. Included are descriptions of complaints, along with related correspondence, recommendations, and conclusions. Also included are electronic copies of documents created using electronic mail and word processing.

Dated: October 9, 2001.
Michael J. Kurtz,
Assistant Archivist for Record Services—Washington, DC.

[FR Doc. 01-26004 Filed 10-16-01; 8:45 am]

BILLING CODE 7515-01-U